DEPARTMENT OF LABOR

Employment and Training Administration

Investigations Regarding Certifications of Eligibility To Apply for Worker Adjustment Assistance and Alternative Trade Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than January 22, 2007.

Interested persons are invited to submit written comments regarding the subject matter of the investigations to the Director, Division of Trade Adjustment Assistance, at the address shown below, not later than January 22, 2007.

The petitions filed in this case are available for inspection at the Office of the Director, Division of Trade Adjustment Assistance, Employment and Training Administration, U.S. Department of Labor, Room C-5311, 200 Constitution Avenue, NW., Washington, DC 20210.

Signed at Washington DC this 28th day of December 2006.
Richard Church,
Certifying Officer, Division of Trade Adjustment Assistance.

Appendix
[TAA petitions instituted between 12/18/06 and 12/22/06]
TA-W | Subject firm (petitioners) | Location | Date of institution | Date of petition
60624 | R and A Tool and Engineering (Wkrs) | Westland, MI | 12/18/06 | 12/13/06
60625 | Huntington Foam Corporation (Wkrs) | Mt. Pleasant, PA | 12/18/06 | 12/14/06
60626 | Baseline Tool Company, Inc. (Comp) | Wawaka, IN | 12/18/06 | 12/15/06
60627 | Advanced Technology Corporation (USW) | Geneva, OH | 12/18/06 | 12/14/06
60628 | Quadra Fab Corporation (Wkrs) | Plattsburgh, NY | 12/18/06 | 12/15/06
60629 | General Electric Lighting, Inc. (Wkrs) | Youngstown, OH | 12/18/06 | 12/12/06
60630 | Bloomsburg Mills, Inc. (Comp) | Bloomsburg, PA | 12/18/06 | 12/15/06
60631 | Jay-Enn Corporation (State) | Troy, MI | 12/18/06 | 12/15/06
60632 | Pfizer, Inc. (State) | Holland, MI | 12/18/06 | 12/15/06
60633 | Alevale Furniture Co. (Comp) | Taylorsville, NC | 12/18/06 | 12/15/06
60634 | Time Warner Cable (Wkrs) | Coudersport, PA | 12/18/06 | 12/14/06
60635 | Mastercraft Fabrics, LLC (Comp) | Cramerton, NC | 12/19/06 | 12/18/06
60636 | Fencemaster (Comp) | Jackson, TN | 12/19/06 | 12/14/06
60637 | Zomax, Inc. (State) | Plymouth, MN | 12/19/06 | 12/18/06
60638 | Acme Face Veneer Co., Inc. (Comp) | Lexington, NC | 12/19/06 | 12/13/06
60639 | Hospira Worldwide, Inc. (State) | N. Billerica, MA | 12/19/06 | 12/15/06
60640 | National Apparel, Inc. (Wkrs) | San Francisco, CA | 12/19/06 | 12/16/06
60641 | Collis, Inc. (Comp) | Evansville, IN | 12/19/06 | 12/19/06
60642 | M.A. Moslow and Brothers, Inc. (IAMAW) | Buffalo, NY | 12/19/06 | 12/03/06
60643 | Hutchings Automotive Products, Inc. (Wkrs) | Grand Blanc, MI | 12/19/06 | 12/14/06
60644 | ISM Fastening Systems (Comp) | Butler, PA | 12/20/06 | 12/18/06
60645 | Diamond Back, Inc. (Wkrs) | Morrisville, VT | 12/20/06 | 12/15/06
60646 | Hollister, Inc. (Wkrs) | Kirksville, MO | 12/20/06 | 12/19/06
60647 | Ito Cariani Foods (State) | Hayward, CA | 12/20/06 | 12/11/06
60648 | Potlatch Corp. (State) | Prescott, AR | 12/20/06 | 12/19/06
60649 | Strattec Security Corp. (Comp) | Milwaukee, WI | 12/20/06 | 12/14/06
60650 | Bourns Automotive Div. (Comp) | Janesville, WI | 12/20/06 | 12/19/06
60651 | AOL, LLC (Wkrs) | Oklahoma City, OK | 12/20/06 | 12/19/06
60652 | Celestica (Comp) | Charlotte, NC | 12/21/06 | 12/19/06
60653 | Progress Casting Group, Inc. (State) | Plymouth, MN | 12/21/06 | 12/20/06
60654 | Badger Fire Protection (Comp) | Charlottesville, VA | 12/21/06 | 12/20/06
60655 | David Brooks Company (Comp) | Costa Mesa, CA | 12/21/06 | 12/20/06
60656 | Carpenter Company (Comp) | Hickory, NC | 12/21/06 | 12/20/06
60657 | Dura Automotive Systems,Inc. (UAW) | Mancelona, MI | 12/22/06 | 12/20/06
60658 | Victor Mill, Inc. (Wkrs) | Greenville, SC | 12/22/06 | 12/14/06
60659 | Colgate Palmolive Company (State) | Kansas City, KS | 12/22/06 | 12/21/06
60660 | Alcoa Wheel Products (Comp) | Lebanon, VA | 12/22/06 | 12/21/06
60661 | Lear Corporation (UAW) | Janesville, WI | 12/22/06 | 12/21/06
60662 | Irving Forest Products (Comp) | Ashland, ME | 12/22/06 | 12/19/06
60663 | Choy Sang, Inc. (Wkrs) | New York, NY | 12/22/06 | 12/21/06
60664 | Hoffman LaRoche (Comp) | Nutley, NJ | 12/22/06 | 12/21/06
60665 | American and Efird, Inc. (Comp) | Clarks Summit, PA | 12/22/06 | 12/20/06
60666 | Spaulding Composites, Inc. (Comp) | DeKalb, IL | 12/22/06 | 12/21/06

[FR Doc. E7-137 Filed 1-9-07; 8:45 am]

BILLING CODE 4510-30-P